DEPARTMENT OF JUSTICE

Notice of Lodging of Proposed Consent Decree Under the Comprehensive Environmental Response, Compensation and Recovery Act

On September 25, 2018, the Department of Justice lodged a proposed Consent Decree with the United States District Court for the Eastern District of Pennsylvania in the lawsuit entitled United States v. Versatile Metals, Inc., Civil Action No. 18-04126-JP.

The United States filed this lawsuit against defendant Versatile Metals, Inc. under Sections 107(a) and 113(g) of the Comprehensive Environmental Response, Compensation and Liability Act (CERCLA). 42 U.S.C. 9607(a) and 9613(g). The complaint requests an order requiring the defendant to reimburse the United States for response costs incurred by the Environmental Protection Agency (“EPA”) in addressing the release of hazardous substances at the Metal Bank of America, Inc. Superfund Site in the City of Philadelphia, Philadelphia County, Pennsylvania. Under the Consent Decree, the defendant has agreed to pay $42,000 to resolve the United States response costs claims, an amount agreed upon by EPA after review of defendant's financial information and a determination of what it could pay without incurring undue financial hardship, in accordance with the EPA's Ability-to-Pay guidance. Defendant has also agreed to assign to the United States its rights to claims under certain comprehensive general liability insurance policies. In return, the United States covenants not to sue the defendant for the claims alleged in the complaint.

The publication of this notice opens a period for public comment on the Consent Decree. Comments should be addressed to the Assistant Attorney General, Environment and Natural Resources Division, and should refer to United States v. Versatile Metals, Inc., D.J. Ref. No. 90-11-3-11890. All comments must be submitted no later than thirty (30) days after publication of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department website: https://www.justice.gov/enrd/consent-decrees. Alternatively, we will provide a paper copy of the Consent Decree upon written request and payment of reproduction costs. Please mail your request and payment to: Consent Decree Library, U.S. DOJ—ENRD, P.O. Box 7611, Washington, DC 20044-7611.

Please enclose a check or money order for $5.25 (25 cents per page reproduction cost) payable to the United States Treasury.

Robert Brook,
Assistant Section Chief, Environmental Enforcement Section, Environment and Natural Resources Division.

[FR Doc. 2018-21492 Filed 10-2-18; 8:45 am]

BILLING CODE 4410-15-P